DEPARTMENT OF TRANSPORTATION

Federal Railroad Administration

Notice of Funding Availability and Solicitation of Applications for Magnetic Levitation Projects

AGENCY: Federal Railroad Administration (FRA), Department of Transportation (DOT).

ACTION: Notice of funding availability.

SUMMARY: This notice of funding availability (NOFA or Notice) details the grant application requirements and submission procedures for obtaining up to $27.8 million in Federal funding, as authorized by sections 1101(a)(18) and 1307 of the Safe, Accountable, Flexible, Efficient Transportation Equity Act: A Legacy for Users (SAFETEA-LU, Public Law 109-59 (August 10, 2005)), as amended by section 102 of the SAFETEA-LU Technical Corrections Act of 2008, Public Law 110-244 (June 6, 2008), for existing magnetic levitation (maglev) projects located east of the Mississippi River. Pursuant to the Joint Committee statement accompanying the SAFETEA-LU Technical Corrections Act, three projects are eligible for funding under this Notice: The “Pittsburgh project”, the “Baltimore-Washington project”, and the “Atlanta-Chattanooga project”. FRA previously announced the availability of funds for maglev projects located east of the Mississippi River pursuant to a NOFA issued on October 16, 2008, but one of the selected applicants has decided not to pursue the project for which the funds were allocated resulting in the availability of the funds for this Notice. Funds awarded under this Notice can be used for preconstruction planning activities and capital costs of a viable maglev project.

DATES: Applications for funding under this NOFA are due no later than 5:00 p.m. EST, April 20, 2015. Applications for funding received after 5:00 p.m. EST on April 20, 2015, will not be considered. See Section 4 of this Notice for additional information regarding the application process.

ADDRESSES: Applications must be submitted via Grants.gov. For any required or supporting application materials that an applicant is unable to submit via Grants.gov (such as oversized engineering drawings), an applicant may submit an original and two (2) copies to Renee Cooper, Office of Program Delivery, Federal Railroad Administration, 1200 New Jersey Avenue SE., Mail Stop 20, Washington, DC 20590. However, due to delays caused by enhanced screening of mail delivered via the U.S. Postal Service, applicants are advised to use other means of conveyance (such as courier service) to assure timely receipt of materials.

FOR FURTHER INFORMATION CONTACT: For further information regarding this Notice, please contact Renee Cooper, Office of Program Delivery, Federal Railroad Administration, 1200 New Jersey Avenue SE., Mail Stop 20, Washington, DC 20590; Email: FRA-Grants@dot.gov; Phone: (202) 493-0491; Fax: (202) 493-6333.

SUPPLEMENTARY INFORMATION: FRA strongly suggests that applicants read this Notice in its entirety prior to preparing application materials. There are programmatic prerequisites and administrative requirements described herein that applicants must comply with in order to submit an application and be considered for funding.

Table of Contents

1. Funding Opportunity Description

2. Award Information

3. Eligibility and Review Criteria

4. Application and Submission Information

5. Application Review Information

6. Award Administration Information

7. Agency Contact

Section 1: Funding Opportunity Description

Section 102 of the SAFETEA-LU Technical Corrections Act (Public Law 110-244, June 6, 2008) (the 2008 Act), amended sections 1101(a)(18) and 1307 of SAFETEA-LU and provided $45 million in contract authority for maglev projects located east of the Mississippi River. Of the funding available for projects east of the Mississippi River ($45 million), approximately $27.8 million in funding is available for award under this NOFA.

In the Joint Explanatory Statement of the House Transportation and Infrastructure Committee and the Senate Environmental and Public Works, Banking, Housing and Urban Affairs, and Commerce, Science and Transportation Committees accompanying the 2008 Act (the Joint Explanatory Statement), Congress explained that in amending SAFETEA-LU to allow FRA discretion to award funds to “projects” located east of the Mississippi River, “the intent is to limit the eligible projects to three existing projects east of the Mississippi River: Pittsburgh, Baltimore-Washington, and Atlanta-Chattanooga.” Based upon that clear Congressional direction, the solicitation for applications under this NOFA is limited to those three projects.

Through this NOFA, FRA will determine whether any of the three eligible projects east of the Mississippi River will receive all or a portion of available funds for maglev projects (based upon a review of submitted applications) and has the discretion to award funds to one or more of those three projects.

Section 2: Award Information

FRA will make available up to $27.8 million in funding available under this NOFA. Should additional funds become available after the release of this Notice, FRA may elect to select an additional project for award or contribute additional funding to a selected project submitted under this NOFA (matching fund requirements would still apply). FRA may select one or more of the eligible projects for funding and may award less than the amount of project funding requested by the applicant based on considerations such as individual project scope and total available funding. FRA reserves the right to apportion the available funding at its discretion.

Fund recipients under this NOFA must comply with the requirements outlined in Title 2, CFR (particularly 2 CFR part 200, Uniform Administrative Requirements, Cost Principles, and Audit Requirements for Federal Awards), as required by the grant award conditions, and all other applicable Federal and DOT/FRA guidance. The funding provided under this NOFA will be made available in the form of a Cooperative Agreement between FRA and the selected applicant(s). Cooperative agreements allow for greater Federal involvement in carrying out the agreed upon investment, including technical assistance, review of interim work products, and increased program oversight. Funds will be transmitted to selected applicants on a reimbursable basis.

Section 3: Eligibility and Review Criteria

3.1 Applicant Eligibility

In accordance with the Joint Explanatory Statement, eligible projects are limited to three existing projects east of the Mississippi River: Pittsburgh, PA; Baltimore, MD-Washington, DC; and Atlanta, GA-Chattanooga, TN. Applicants must be a State, States, or an authority designated by one or more States.

If the project proponents propose service in more than one State, a single State or designated State authority should apply on behalf of all participating States. FRA encourages States to submit applications through their respective Departments of Transportation.

3.2 Project Eligibility

Congress established three project eligibility requirements for financial assistance under this program. The project must: (1) Involve a segment or segments of a high-speed ground transportation corridor; (2) result in an operating transportation facility that provides a revenue producing service; and (3) be approved by the Secretary based on an application submitted to the Secretary by a State or authority designated by one or more States. With respect to the second criterion, Congress titled section 1307 “Deployment of Magnetic Levitation Transportation Projects” and the funding provided through section 1101(a)(18) of SAFETEA-LU, as amended by the 2008 Act, is made available for the “deployment of magnetic levitation projects.” FRA interprets the statute as a whole as evidencing a Congressional intent that the Federal funds be used to directly advance and result in the construction of a maglev project. Thus, in order to be eligible for funding under this program, an application must include evidence that an operating transportation facility that provides a revenue producing service will be constructed.

Congress also defined other key terms and program requirements. Maglev is defined to mean “transportation systems employing magnetic levitation that would be capable of safe use by the public at a speed in excess of 240 miles per hour.”

Eligible project costs can include costs for preconstruction planning work and/or capital costs for fixed guideway infrastructure for a maglev project (see SAFETEA-LU section 1307(a)(1) for the complete definition).

These criteria and definitions are prerequisites to FRA evaluating an application and the application materials must include data to support these eligibility requirements. If the criteria are not met to FRA's satisfaction, the project is not eligible for funding.

3.3 Cost Sharing and Matching Fund Requirements

The Federal share of a selected project or projects shall not exceed 80 percent of the total project cost (based on the final project scope selected for funding by FRA). The grantee(s) is (are) responsible for providing a minimum of 20 percent of the total project cost from non-federal sources.

Section 4: Application and Submission Information

4.1 Submission Dates and Times

Complete applications must be submitted to Grants.gov no later than 5:00 p.m. EST on April 20, 2015. Applicants are strongly encouraged to apply early to ensure that all materials are received before this deadline.

4.2 Application Procedures

This NOFA will be available to the public beginning March 19, 2015. To apply for funding through Grants.gov, applicants must be properly registered. Complete instructions on how to register and submit an application can be found at Grants.gov. Registering with Grants.gov is a one-time process; however, it can take up to several weeks for first-time registrants to receive confirmation and a user password. FRA recommends that applicants start the registration process as early as possible to prevent delays that may preclude submitting an application package by the application deadline. Under no circumstances will applications be accepted after the due date. Delayed registration is not an acceptable justification for extending the application deadline.

In order to apply for funding under this announcement and to apply for funding through Grants.gov, all applicants are required to complete the following:

1. Acquire a DUNS Number. A Data Universal Numbering System (DUNS) number is required for Grants.gov registration. The Office of Management and Budget requires that all businesses and nonprofit applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and sub recipients. The DUNS number will be used throughout the grant life cycle. Obtaining a DUNS number is a free, one-time activity. Applicants may obtain a DUNS number by calling 1-866-705-5711 or by applying online at http://www.dnb.com/us.

2. Acquire or Renew Registration with the System for Award Management (SAM) Database. All applicants for Federal financial assistance must maintain current registrations in the System for Award Management (SAM) database. An applicant must be registered in SAM to successfully register in Grants.gov. The SAM database is the repository for standard information about Federal financial assistance applicants, recipients, and sub recipients. Organizations that have previously submitted applications via Grants.gov are already registered with SAM, as it is a requirement for Grants.gov registration. Please note, however, that applicants must update or renew their SAM registration at least once per year to maintain an active status, so it is critical to check registration status well in advance of the application deadline. Information about SAM registration procedures can be accessed at www.sam.gov.

3. Acquire an Authorized Organization Representative (AOR) and a Grants.gov Username and Password. Applicants must complete an AOR profile on Grants.gov and create a username and password. Applicants must use the organization's DUNS number to complete this step. Additional information about the registration process is available at www.grants.gov/applicants/get_registered.jsp.

4. Acquire Authorization for your AOR from the E-Business Point of Contact (E-Biz POC). The Applicant's E-Biz POC must log in to Grants.gov to confirm a representative as an AOR. Please note that there can be more than one AOR at an organization.

5. Search for the Funding Opportunity on Grants.gov. The Catalog of Federal Domestic Assistance (CFDA) number for this opportunity is 20.318, titled “Railroad Development.”

6. Submit an Application Addressing All of the Requirements Outlined in this Funding Availability Announcement. After submitting the application through Grants.gov, a confirmation screen will appear on the applicant's computer screen. This screen will confirm that the applicant has submitted an application and provide a tracking number to track the status of the submission. Within 24 to 48 hours after submitting an electronic application, an applicant should receive an email validation message from Grants.gov. The validation message will explain whether the application has been received and validated or rejected, with an explanation. Applicants are urged to submit an application at least 72 hours prior to the due date of the application to allow time to receive the validation message and to correct any problems that may have caused a rejection notification.

If an applicant experiences difficulties at any point during this process, please call the Grants.gov Customer Center Hotline at 1-800-518-4726, 24 hours a day, 7 days a week (closed on Federal holidays).

Note: Please use generally accepted formats such as .pdf, .doc, .docx, .xls, .xlsx and .ppt, when uploading attachments. While applicants may imbed picture files, such as .jpg, .gif, and .bmp, in document files, please do not submit attachments in these formats. Additionally, the following formats will not be accepted: .com, .bat, .exe, .vbs, .cfg, .dat, .db, .dbf, .dll, .ini, .log, .ora, .sys, and .zip.

4.3 Content of Application

Required documents for the application package are outlined in the checklist below. Applicants are encouraged to visit the FRA Web site (www.fra.dot.gov) to download the required templates and forms.

FRA Documents and Forms

• Project Narrative

• Statement of Work

• FRA's Additional Assurances and Certifications

OMB Standard Forms

• SF 424: Application for Federal Assistance

• SF 424A: Budget Information—Non Construction (for projects with planning costs only)

• SF 424B: Assurances—Non Construction

• SF 424C: Budget Information—Construction

• SF 424D: Assurances—Construction

• SF LLL: Disclosure of Lobbying Activities

Applicants must complete and submit all components of the application package. FRA welcomes the submission of other relevant supporting documentation that may have been developed by the applicant (planning, environmental documentation, engineering and design documentation, letters of support, etc.).

Applicants should submit all application materials through Grants.gov. For any required or supporting application materials that an applicant is unable to submit via Grants.gov (such as oversized engineering drawings), an applicant may submit an original and two (2) copies to Renee Cooper, Office of Program Delivery, Federal Railroad Administration, 1200 New Jersey Avenue SE., Mail Stop 20, Washington, DC 20590. However, due to delays caused by enhanced screening of mail delivered via the U.S. Postal Service, applicants are advised to use other means of conveyance (such as courier service) to assure timely receipt of materials.

4.3.1 Project Narrative

The following points describe the minimum content which will be required in the Project Narrative component of grant applications (additionally, FRA recommends that the Project Narrative generally adhere to the following outline sequence). These requirements must be satisfied through a narrative statement submitted by the applicant, and may be supported by spreadsheet documents, tables, maps, drawings, and other materials, as appropriate. The Project Narrative may not exceed 25 pages in length (including any appendices).

The FRA recommends that applicants read this section carefully and submit all required information:

1. Include a title page that lists the following elements in either a table or formatted list: project title, location (city, State, district), the applicant organization name, the name of any co-applicants, and the amount of Federal funding requested and the proposed non-Federal match.

2. Designate a point of contact for the application and provide his or her name and contact information, including phone number, mailing address, and email address. The point of contact must be an employee of an eligible applicant.

3. Indicate the amount of Federal funding requested, the proposed non-Federal match, and total project cost, including the methodology or practices deployed for accurately estimating costs (such as the best practices cited in the Government Accountability Office's Cost Estimate and Assessment Guide). Additionally, identify any other sources of Federal funds committed to the project, as well as any pending Federal funding requests. Make sure to also note if the requested Federal funding must be obligated or expended by a certain date due to dependencies or relationships with other Federal or non-Federal funding sources, related projects, or other factors. Finally, specify whether Federal funding has ever previously been sought for the project and not secured, and name the Federal program and fiscal year from which the funding was requested.

4. Explain how the applicant meets the respective applicant and project eligibility criteria described earlier in Section 3 of this NOFA.

5. Provide a brief 4-6 sentence summary of the proposed project, capturing the transportation challenges the proposed project aims to address, the market to be served by the new service, as well as the intended outcomes and anticipated benefits that will result from the proposed project.

6. Include a detailed project description that expands upon the brief summary required above. This detailed description should provide, at a minimum, additional background on the transportation challenges the project aims to address, the expected users, beneficiaries, and outcomes of the project, and any other information the applicant deems necessary to justify the proposed project. Be specific regarding the relevance or relationship of the proposed project to other investments in the region along the corridor, as well as the operating changes that are anticipated to result from the introduction and integration of maglev services within existing transportation corridors and assess the major risks (including safety risks) or obstacles to maglev's successful deployment and operation. Provide a detailed summary of all work done to date, including any preliminary engineering work, the project's previous accomplishments and funding history, and a chronology of key documents produced and funding events (e.g., grants and contracts).

7. Include a thorough discussion of how the project meets all of the selection criteria for the respective project type, as outlined in Section 5 of this notice. In responding to the criteria, applicants are reminded to clearly identify, quantify, and compare expected benefits and costs of proposed projects.

8. Describe proposed project implementation and project management arrangements for the full maglev corridor project, including the activities proposed in this application. Include descriptions of the expected arrangements for project contracting, contract oversight, change-order management, risk management, and conformance to Federal requirements for project progress reporting.

9. Describe the plan to finance any planning, land acquisition, buildout, testing, and implementation of the project, and specify long term financial plans to own, operate and maintain maglev services.

10. Describe anticipated environmental or historic preservation impacts associated with the proposed project, any environmental or historic preservation analyses that have been prepared, and any ongoing progress toward completing environmental documentation or clearance required for the proposed project under the National Environmental Policy Act (NEPA), the National Historic Preservation Act (NHPA), section 4(f) of the DOT Act, the Clean Water Act, or other applicable Federal or State laws, and provide, as available, timeline associated with the process to complete these actions. Applicants and grantees under FRA's financial assistance programs are encouraged to contact FRA and obtain preliminary direction regarding the appropriate NEPA class of action and required environmental documentation. Generally, projects will be ineligible to receive funding if they have begun construction activities prior to the applicant/grantee receiving written approval from FRA that all environmental and historical analyses have been completed.

4.3.2 Statement of Work

Applicants are required to submit a Statement of Work (SOW) that addresses the scope, schedule, and budget for the proposed project if it were to be selected for award. The SOW should contain sufficient detail so that both FRA and the applicant can understand the individual tasks that comprise the project and the expected outcomes of the proposed work to be performed, and monitor progress toward completing project tasks and deliverables during a prospective grant's period of performance.

Section 5: Application Review Information

5.1 Application Review and Selection Process

Across all funding programs, FRA awards funds to projects that achieve the maximum public benefit possible given the amount of funding available for that project. Analysis provided by applicants that quantifies the monetary value (whenever possible) of the anticipated or potential public benefits of the project is relevant to FRA when assessing and evaluating applications for funding.

5.2 Selection Criteria

FRA will review applications and assess them against the following selection criteria:

1. The extent to which the project will address at least one or more serious challenges to the feasibility of integrating maglev systems with conventional rail systems.

2. The extent to which funds awarded under this section will result in investments that are beneficial not only to the maglev project, but also to other current or near-term transportation projects. Applicants should keep in mind, however, that—while project eligibility requires three areas of satisfaction, including the project resulting in an operating transportation facility that provides a revenue producing source—Federal funds may not be used for station construction costs or solely for land acquisition pursuant to securing operation right-of-way.

3. The degree to which the project demonstrates the potential for a public-private partnership for the corridor in which the maglev project is involved, and/or for the project independently. Any corridor exhibiting partnership potential must meet at least the following conditions: (a) Once built and paid for, the corridor will stand alone as a complete, self-sustaining operation; (b) the total, fully allocated operating expenses of the maglev service are projected to be offset by revenues attributable to the service; and (c) the total public benefits of a maglev corridor must equal or exceed its total societal costs.

4. The extent of the demonstrated financial commitment to the construction of the proposed project from both non-Federal public sources and private sources, including any financial contributions or commitment the applicant has secured from non-Federal entities that are expected to benefit from the project. If applicable, also include the extent to which the State or private entities exceed the required 20 percent match.

5. The extent to which the project demonstrates the ability to meet all applicable Federal and State statutes, regulations, and environmental requirements—to include coordination and consistency with any ongoing or completed environmental and planning studies for passenger rail on or connecting to the geographic route segment being proposed for maglev investment (e.g., NEC FUTURE Tier 1 EIS and Service Development Plan and Atlanta-Chattanooga High Speed Ground Transportation Tier 1 EIS).

6. The degree to which the project will demonstrate the variety of maglev operating conditions which are to be expected in the United States. For example, these conditions might include a variety of at-grade, elevated and depressed guideway structures, extreme temperatures, and intermodal connections at terminals.

7. The feasibility of the project meeting a top speed of at least 240 miles per hour (MPH). FRA will also consider favorably the ability to meet higher speeds as well as the duration that speeds of at least 240 MPH can be attained.

Section 6: Award Administration Information

6.1 Award Notices

Applications selected for funding will be announced after the application review period. FRA will contact applicants with successful applications after announcement with information and instructions about the award process. Notification of a selected application is not an authorization to begin proposed project activities.

6.2 Administrative and National Policy Requirements

Applicants selected for funding (and any subrecipient(s)) must comply with all applicable laws and regulations governing the grant agreement. A non-exclusive list of administrative and national policy requirements that grantees must follow includes: Procurement standards, compliance with Federal civil rights laws and regulations, disadvantaged business enterprises (DBE), debarment and suspension, drug-free workplace, FRA's and OMB's Assurances and Certifications, Americans with Disabilities Act (ADA), labor standards, safety oversight, environmental protection, National Environmental Policy Act (NEPA), and environmental justice. In addition, FRA expects applicants to comply with the Buy America standards in 49 U.S.C. 24405(a). FRA expects this to apply to any capital costs funded under this NOFA for steel, iron, or manufactured goods used in construction of the Maglev project.

6.3 General Requirements

The grantee must comply with all post-award implementing, reporting, auditing, monitoring, and close-out requirements, as described in Title 2, CFR (particularly 2 CFR part 200, Uniform Administrative Requirements, Cost Principles, and Audit Requirements for Federal Awards), as required by the grant award conditions, and all other applicable Federal and DOT/FRA guidance.

Section 7: Agency Contact

For further information regarding this notice and the grants program, please contact Renee Cooper, Office of Program Delivery, Federal Railroad Administration, 1200 New Jersey Avenue SE., Mail Stop 20, Washington, DC 20590; Email: FRA-grants@dot.gov; Phone: (202) 493-0491; Fax: (202) 493-6333.

Authority: The Safe, Accountable, Flexible, Efficient Transportation Equity Act: A Legacy for Users (Pub. L. 109-59, August 10, 2005), and the SAFETEA-LU Technical Corrections Act (Pub. L. 110-244, June 6, 2008.)

Issued in Washington, DC, on March 18, 2015.
Corey Hill,
Director, Office of Program Delivery.

[FR Doc. 2015-06542 Filed 3-19-15; 8:45 am]

BILLING CODE 4910-06-P